DEPARTMENT OF HEALTH AND HUMAN SERVICES

National Institutes of Health

Submission for OMB Review; 30-Day Comment Request Special Volunteer and Guest Researcher Assignment (Office of Intramural Research, Office of the Director)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Arlyn Garcia-Perez, Director of Policy and Analysis, Office of Intramural Research, Office of the Director, National Institutes of Health, 1 Center Drive MSC 0140, Building 1, Room 160, MSC-0140, Bethesda, Maryland 20892 or call non-toll-free number (301) 496-1921 or (301) 496-1381 or Email your request, including your address to: GarciaA@od.nih.gov.

SUPPLEMENTARY INFORMATION: This proposed information collection was previously published in the Federal Register on October 4, 2022, pages 60179-60180 (87 FR 60179) and allowed 60 days for public comment. No public comments were received. The purpose of this notice is to allow an additional 30 days for public comment. The Office of Intramural Research (OIR), Office of the Director, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Special Volunteer and Guest Researcher Assignment form—REVISION OMB # 0925-0177, exp., date April 30, 2024, Office of Intramural Research (OIR), Office of the Director (OD), National Institutes of Health (NIH).

Need and Use of Information Collection: Form Number: NIH-590 is a single form completed by an NIH official for each Guest Researcher or Special Volunteer prior to his/her arrival at NIH. The information on the form is necessary for the Special Volunteer to acknowledge and agree to the conditions and responsibilities of their volunteer services at NIH via the Special Volunteer Agreement as the legal instrument. The DHHS Office of General Counsel, in consultation with the Department of Justice, now requires that revisions be made to items 7 and 8 of the Special Volunteer Agreement, NIH Form 590-2. Special Volunteers and Guest Researchers both fill the main collection instrument, NIH Form 590; and Guest Researchers fill a separate Guest Researcher Agreement, NIH Form 590-1. No revisions are proposed for these other forms currently. Form NIH-590 is a single form completed by an NIH official for each Special Volunteer or Guest Researcher prior to her/his arrival at NIH. The information on the form is necessary for the approving official to reach a decision on whether to allow a Guest researcher to use NIH facilities, or whether to accept volunteer services offered by a Special Volunteer. If the original assignment is extended, another form notating the extension is completed to update the file. In addition, each Special Volunteer and Guest Researcher reads and signs an NIH Agreement.

OMB approval is requested for 3 years. There are no costs to respondents other than their time. The total estimated annualized burden hours are 652.

Estimated Annualized Burden Hours
Form name | Type of respondents | Number of respondents | Number of responses per respondent | Average burden per response (in hours) | Total annual hour burden hours
Special Volunteer and Guest Researcher Assignment | Special Volunteers and Guest researchers | 2,300 | 2 | 6/60 | 460
NIH Special Volunteer Agreement | Special Volunteers | 2,100 | 1 | 5/60 | 175
NIH Guest Researcher Agreement | Guest Researchers | 200 | 1 | 5/60 | 17
Totals |  | 2,300 | 6,900 |  | 652

Dated: December 14, 2022.
Tara A. Schwetz,
Acting Principal Deputy Director, National Institutes of Health.

[FR Doc. 2022-27759 Filed 12-21-22; 8:45 am]

BILLING CODE 4140-01-P